DEPARTMENT OF ENERGY

10 CFR Part 430

[EERE-2017-BT-STD-0019]

RIN 1904-AF65

Energy Conservation Program: Energy Conservation Standards for Consumer Gas-Fired Instantaneous Water Heaters

AGENCY: Office of Energy Efficiency and Renewable Energy, Department of Energy (DOE).

ACTION: Final rule; delay of effective date.

SUMMARY: This document delays the effective date of a recently published final rule amending the energy conservation standards for gas-fired instantaneous water heaters. DOE also seeks comment on any further delay of the effective date, including the impacts of such delay, as well as comment on the legal, factual, or policy issues raised by the rule.

DATES: The effective date of the rule amending 10 CFR part 430 published at 89 FR 105188 on December 26, 2024, is delayed until March 21, 2025. Written comments and information will be accepted on or before March 13, 2025.

FOR FURTHER INFORMATION CONTACT:

Ms. Julia Hegarty, U.S. Department of Energy, Office of Energy Efficiency and Renewable Energy, Building Technologies Office, EE-5B, 1000 Independence Avenue SW, Washington, DC 20585-0121. Telephone: (240) 597-6737 Email: ApplianceStandards Questions@ee.doe.gov.

Mr. Uchechukwu “Emeka” Eze, U.S. Department of Energy, Office of the General Counsel, GC-33, 1000 Independence Avenue SW, Washington, DC 20585-0121. Telephone: (202) 586-4798. Email: uchechukwu.eze@hq.doe.gov.

SUPPLEMENTARY INFORMATION: On January 20, 2025, President Trump issued the “Regulatory Freeze Pending Review” memorandum, published in the Federal Register on January 28, 2025 (90 FR 8249). This presidential action ordered all executive departments and agencies to consider postponing for 60 days the effective date of certain rules published in the Federal Register for the purpose of reviewing any questions of fact, law, and policy that the rules may raise. Additionally, executive departments and agencies were to consider opening a comment period to allow interested parties to provide comments about issues of fact, law, and policy raised by the rules postponed under the memorandum.

In implementation of one of the measures directed by that memorandum, the United States Department of Energy (DOE) hereby temporarily postpones the effective date of its final rule amending the energy conservation standards for gas-fired instantaneous water heaters published in the Federal Register on December 26, 2024 (89 FR 105188). The December 26, 2024, rule amended the energy conservation standards for gas-fired instantaneous water heaters to: (1) increase the minimum efficiency level for certain product classes (products with effective storage volumes less than 2 gallons and input ratings greater than 50,000 Btu/h); and (2) change the rating metric (without increasing stringency levels) for other product classes.

Consistent with the Presidential Memorandum of January 20, 2025, DOE is temporarily postponing the effective date of the final rule to March 21, 2025, and opening a comment period to consider the impacts of any subsequent delays, as well as comment on the legal, factual, or policy issues raised by the subject rule. The temporary delay in effective date is necessary to give DOE officials the opportunity for further review and consideration of new regulations, consistent with the Presidential Memorandum of January 20, 2025.

To the extent that 5 U.S.C. 553 applies to this action, it is exempt from notice and comment because it constitutes a rule of procedure under 5 U.S.C. 553(b)(A) for which no notice or hearing is required by statute. The delay of the effective date to March 21, 2025, does not affect the compliance date for this rule, which remains December 26, 2029. DOE is, however, seeking comment on any further delay of the effective date, including the impacts of such delay, as well as comment on the legal, factual, or policy issues raised by the rule.

Signing Authority

This document of the Department of Energy was signed on February 13, 2025, by Jocelyn Richards, Acting General Counsel, Office of the General Counsel, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 14, 2025.
Jennifer Hartzell,
Alternate Federal Register Liaison Officer, U.S. Department of Energy.

[FR Doc. 2025-02852 Filed 2-19-25; 8:45 am]

BILLING CODE 6450-01-P